DEPARTMENT OF THE INTERIOR

Bureau of Land Management

[ID095-04-1220-BA:GPO DBG040006]

Emergency Closure of Skinny Dipper Hot Springs

AGENCY: Bureau of Land Management, Interior.

ACTION: Notice.

SUMMARY: The parking area adjacent to the Banks-Lowman Highway near mile post 4, the trail from the parking area to the Skinny Dipper Hot Springs, and all areas within 1,000 feet of the Skinny Dipper Hot Springs are being closed from sunset to sunrise each day. These public lands are administered by the Bureau of Land Management (BLM) and are located within Lot 3; Section 25, T. 9 N., R.3 E., Boise Meridian, Boise County, Idaho. The emergency closure is intended to provide for public safety. Currently, the public's safety is at high risk.

Law enforcement officers of Federal, State and County governments, while on official business of that agency, are exempt from this order. Exceptions to this closure may include vehicle use for administrative and emergency purposes. Under special circumstances, the authorized officer may issue a special permit allowing access into the area for specific purposes. The closure will go into effect on July 1, 2004 and will expire on May 24, 2009.

EFFECTIVE DATE: This Emergency Access Closure Order is effective on July 1, 2004 through May 24, 2009.

ADDRESSES: Bureau of Land Management, Four Rivers Field Office, 3948 Development Avenue, Boise, Idaho 83705

FOR FURTHER INFORMATION CONTACT: Deborah L. Epps, Acting Four Rivers Field Manager, (208) 384-3300.

SUPPLEMENTARY INFORMATION: Over the last several years there have been numerous injuries and a recent fatality from a fall resulting in the need to immediately institute this closure.

This emergency closure is being established and administered by the BLM. Authority for this action is found in 43 CFR 8360.0-3 and complies with 43 CFR 8364.1 Closure and Restriction Orders. Violation of this closure order is in accordance with 43 CFR 8360.0-7 punishable by a fine not to exceed $1,000 and/or imprisonment not to exceed 12 months. Such violations may also be subject to the enhanced fines provided for by 18 U.S.C. 3571.

Dated: March 24, 2004.
Deborah L. Epps,
Acting Four Rivers Field Manager.

[FR Doc. 04-14882 Filed 6-30-04; 8:45 am]

BILLING CODE 4310-GG-P